NATIONAL ARCHIVES AND RECORDS ADMINISTRATION

36 CFR Part 1280

RIN 3095-AA06

Public Use of NARA Facilities; Correction

AGENCY: National Archives and Records Administration (NARA).

ACTION: Final rule; correction.

SUMMARY: NARA published in the Federal Register of June 1, 2000 a final rule revising its regulations for use of its facilities. Inadvertently, we omitted a qualification that NARA employees may use the NARA shuttle between the National Archives Building and the College Park facility for official purposes only. This document provides the correct text.

DATES: Effective on July 1, 2000.

FOR FURTHER INFORMATION CONTACT: Shawn Morton at (301) 713-7360, extension 253.

SUPPLEMENTARY INFORMATION: NARA published a final rule document in the Federal Register of June 1, 2000, (65 FR 34977) revising 36 CFR part 1280, Public Use of NARA Facilities. Section 1280.14 provides the conditions under which NARA employees, other Government employees, and the public may use the NARA shuttle. NARA has had a long-standing policy that NARA employees may use the shuttle only for official purposes, but this limitation was omitted from the final rule. This correction provides that text.

In the document FR 00-13810 published on June 1, 2000, (65 FR 34977) make the following correction:

§ 1280.14 [Corrected]

1. On page 34979, in the second column, in § 1280.14, correct the fifth line of that section to read “intended for NARA employees' use for official purposes. Other”.

Dated: June 1, 2000.
Nancy Y. Allard,
Federal Register Liaison Officer.

[FR Doc. 00-14117 Filed 6-5-00; 8:45 am]

BILLING CODE 7515-01-P